ENVIRONMENTAL PROTECTION AGENCY

[OPP-100169; FRL-6773-8]

The George Washington University, Writing Center; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be tranferred to The George Washington University, Writing Center in accordance with 40 CFR 2.307(h)(3) and 2.308(i)(2). The George Washington University, Writing Center has been awarded a contract to perform work for OPP, and access to this information will enable The George Washington University, Writing Center to fulfill the obligations of the contract.

DATES: The George Washington University, Writing Center will be given access to this information on or before March 26, 2001.

FOR FURTHER INFORMATION CONTACT: By mail: Erik R. Johnson, FIFRA Security Officer, Information Resources and Services Division (7502C), Office of Pesticide Programs, Environmental Protection Agency, 1200 Pennsylvania Ave., NW., Washington, DC 20460; telephone number: 703-305-7248; e-mail address: johnson.erik@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Additional Information, Including Copies of this Document and Other Related Documents?

You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

II. Contractor Requirements

Under contract number 01-01-0851/000, the contractor will perform the following:

Scientists must determine the risk of each pesticide to be registered or reregistered according to its use. Such risk assessments must be communicated in writings of “plain language” as mandated by former President Clinton in his memorandum, dated June 1, 1998.

The purpose of this service is to ensure or make certain that scientists can transition from scientific/technical writers into competent writers of information intended for the lay public. They will be trained to produce risk assessments that are structured logically, that avoid redundancy, and that use active instead of passive voice. Each risk assessment will be written to express the hazard and exposure as well as the estimate of potential risks (e.g., exposure and safety factors for infants and children, assessing pesticide exposure from food, assessing pesticide exposure from drinking water, assessing residential pesticide exposure and assessing occupational pesticide exposure.) The risk estimates are used to support risk management decisions and are the basis of risk communication.

The contractor shall work with a base of 20 EPA/OPP students individually and develop a needs assessment specific to each individual.

The contract involves no subcontractors.

The OPP has determined that the contract described in this document involves work that is being conducted in connection with FIFRA, in that pesticide chemicals will be the subject of certain evaluations to be made under this contract. These evaluations may be used in subsequent regulatory decisions under FIFRA.

Some of this information may be entitled to confidential treatment. The information has been submitted to EPA under sections 3, 4, 6, and 7 of FIFRA and under sections 408 and 409 of FFDCA.

In accordance with the requirements of 40 CFR 2.307(h)(3), the contract with The George Washington University, Writing Center prohibits use of the information for any purpose not specified in the contract; prohibits disclosure of the information to a third party without prior written approval from the Agency; and requires that each official and employee of the contractor sign an agreement to protect the information from unauthorized release and to handle it in accordance with the FIFRA Information Security Manual. In addition, The George Washington University, Writing Center is required to submit for EPA approval a security plan under which any CBI will be secured and protected against unauthorized release or compromise. No information will be provided to The George Washington University, Writing Center until the requirements in this document have been fully satisfied. Records of information provided to The George Washington University, Writing Center will be maintained by EPA Project Officers for the contract. All information supplied to The George Washington University, Writing Center by EPA for use in connection with the contract will be returned to EPA when The George Washington University, Writing Center has completed its work.

List of Subjects

Environmental protection, Business and industry, Government contracts, Government property, Security measures.

Dated: February 28, 2001.
Richard D. Schmitt,
Director, Information Resources and Services Division, Office of Pesticide Programs.

[FR Doc. 01-6712 Filed 3-16-01; 8:45 am]

BILLING CODE 6560-50-S